DEPARTMENT OF DEFENSE

Department of the Army

Reserve Officers' Training Corps (ROTC) Program Subcommittee

AGENCY: Department of the Army, DoD.

ACTION: Notice of open meeting.

SUMMARY: In accordance with Section 10(a)(2) of the Federal Advisory Committee Act (5 U.S.C., App. 2), announcement is made of the following Committee meeting:

Name of Committee: Reserve Officers' Training Corps (ROTC) Program Subcommittee.

Dates of Meeting: January 24-25, 2006.

Location: Radisson Hotel Hampton, 700 Settlers Landing Road, Hampton, VA 23669.

Time: 0800-1700 hours, January 24, 2006; 0800-1030 hours, January 25, 2006.

Proposed Agenda: Review and discuss the Junior and Senior Reserve Officers' Training Corps programs; incentive-based scholarships initiatives; academic accreditation agencies and procedures; curriculum review, revision and validation; and the growth of Military Science and Leadership as a college minor.

FOR FURTHER INFORMATION CONTACT: Mr. Pierre Blackwell, U.S. Army Cadet Command (ATCC-TR), Fort Monroe, VA 23651 at (757) 788-4522.

SUPPLEMENTARY INFORMATION: This meeting is open to the public. Any interested person may attend, appear before, or file statements with the committee.

Brenda S. Bowen,
Army Federal Register Liaison Officer.

[FR Doc. 06-99 Filed 1-5-06; 8:45 am]

BILLING CODE 3710-08-M